DEPARTMENT OF DEFENSE

Office of the Secretary

[Docket ID: DoD-2022-HA-0031]

Proposed Collection; Comment Request

AGENCY: Defense Health Agency (DHA), Department of Defense (DoD).

ACTION: 60-Day information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 16, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Medical Benefits and Reimbursement Section, Health Plan Design Branch, TRICARE Health Plan Division, Defense Health Agency, 16401 E. Centretech Parkway, Aurora, CO 80011, Erica Ferron, 303-676-3626.

SUPPLEMENTARY INFORMATION: Title; Associated Form; and OMB Number: Childbirth and Breastfeeding Support Demonstration Survey; OMB Control Number 0720-CBDS.

Needs and Uses: The Childbirth and Breastfeeding Support Demonstration Survey is necessary to solicit information from TRICARE beneficiaries who have given birth in the specified reporting period (initial survey for beneficiaries who gave birth in calendar year 2021, with follow on surveys sent to beneficiaries who give birth each calendar year quarter through the end of 2026, with the final survey sent in early 2027). Approximately 100,000 TRICARE beneficiaries give birth each year; about 60 percent of those births occur in private sector care and the other 40 percent in direct care (military treatment facilities). The survey is mandated by Section 746 of the William M. (Mac) Thornberry National Defense Authorization Act for Fiscal Year 2021 (Public Law 116-283, enacted on January 1, 2021).

Affected Public: Individuals or households.

Annual Burden Hours: 2,400.

Number of Respondents: 16,000.

Responses per Respondent: 1.

Annual Responses: 16,000.

Average Burden per Response: 9 minutes.

Frequency: On occasion.

Dated: March 8, 2022.
Aaron T. Siegel,
Alternate OSD Federal Register Liaison Officer, Department of Defense.

[FR Doc. 2022-05460 Filed 3-14-22; 8:45 am]

BILLING CODE 5001-06-P